DEPARTMENT OF AGRICULTURE

Forest Service

Southern New Mexico Resource Advisory Committee

AGENCY: Forest Service, USDA.

ACTION: Notice of meeting.

SUMMARY: The Southern New Mexico Resource Advisory Committee will meet in Socorro, New Mexico. The committee is meeting as authorized under the Secure Rural Schools and Community Self-Determination Act (Pub. L. 110-343) and in compliance with the Federal Advisory Committee Act. The purpose of the meeting is to develop operating protocols.

DATES: The meeting will be held June 22, 2010, 10 a.m.

ADDRESSES: The meeting will be held at 901 Highway 85, Socorro Bureau of Land Management field office. Written comments should be sent to Mr. Al Koss, HC 68, Box 50, Mimbres, NM 88049-9301. Comments may also be sent via e-mail to alkoss@fs.fed.us, or via facsimile to 575-520-2551.

All comments, including names and addresses when provided, are placed in the record and are available for public inspection and copying. The public may inspect comments received at the Wilderness Ranger District, HC 68, Box 50, Mimbres, NM 88049-9301. Visitors are encouraged to call ahead to 575-536-2250 to facilitate entry into the building.

FOR FURTHER INFORMATION CONTACT: Mr. Al Koss, Designated Federal Official, 575-536-2250 or alkoss@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members, and Forest Service personnel; (2) selection of a chairperson by the committee members; (3) receive materials explaining the process for considering and recommending Title II projects; and (4) public Comment. Persons who wish to bring related matters to the attention of the Committee may file written statements with the Committee staff before or after the meeting. Public input sessions will be provided and individuals who made written requests by June 15 will have the opportunity to address the Committee at those sessions.

Dated: May 26, 2010.
Alan E. Koss,
Designated Federal Official.

[FR Doc. 2010-13105 Filed 6-1-10; 8:45 am]

BILLING CODE 3410-11-M